FEDERAL COMMUNICATIONS COMMISSION

Sunshine Act Meeting

FCC to hold open Commission meeting Thursday, June 10, 2004.

The Federal Communications Commission will hold an Open Meeting on the subjects listed below on Thursday, June 10, 2004, which is scheduled to commence at 9:30 a.m. in Room TW-C305, at 445 12th Street, SW., Washington, DC.

Item No. | Bureau | Subject
1 | International | Title: Mandatory Electronic Filing for International Telecommunications Services and Other International Filings.
|  | Summary: The Commission will consider a Notice of Proposed Rulemaking concerning Electronic Filing—Telecoms.
2 | International | Title: Review of the Spectrum Sharing Plan Among Non-Geostationary Satellite Orbit Mobile Satellite Service Systems in the 1.6/2.4 GHz Bands (IB Docket No. 02-364); and Amendment of Part 2 of the Commission's Rules to Allocate Spectrum Below 3 GHz for Mobile and Fixed Services to Support the Introduction of New Advanced Wireless Services, including Third Generation Wireless Systems (ET Docket No. 00-258).
|  | Summary: The Commission will consider a Report and Order and Fourth Report and Order concerning spectrum sharing in the 1.6 and 2.4 GHz bands.
3 | Wireless Telecommunications | Title: Amendment of Parts 1, 21, 73, 74 and 101 of the Commission's Rules to Facilitate the Provision of Fixed and Mobile Broadband Access, Educational and Other Advanced Services in the 2150-2162 and 2500-2690 MHz Bands (WT Docket No. 03-66, RM-10586); Part 1 of the Commission's Rules—Further Competitive Bidding Procedures (WT Docket No. 03-67); Amendment of Parts 21 and 74 to Enable Multipoint Distribution Service and the Instructional Television Fixed Service Amendment of Parts 21 and 74 to Engage in Fixed Two-Way Transmissions (MM Docket No. 97-217); Amendment of Parts 21 and 74 of the Commission's Rules with Regard to Licensing in the Multipoint Distribution Service and in the Instructional Television Fixed Service for the Gulf of Mexico (WT Docket No. 02-68, RM-9718); and Promoting Efficient Use of Spectrum Through Elimination of Barriers to the Development of Secondary Markets (WT Docket No. 00-230).
|  | Summary: The Commission will consider a Report and Order and Further Notice of Proposed Rulemaking concerning the eligibility, licensing and service rules for the 2500-2690 MHz Band to promote ubiquitous wireless broadband services nationwide.
4 | Media | Title: Annual Assessment of the Status of Competition in the Market for the Delivery of Video Programming.
|  | Summary: The Commission will consider a Notice of Inquiry seeking information and comment for the Eleventh Annual Report to Congress on the status of competition in the market for the delivery of video programming.
5 | Consumer & Governmental Affairs | Title: Telecommunications Relay Services and Speech-to-Speech Services for Individuals with Hearing and Speech Disabilities (CC Docket Nos. 90-571, 98-67, and 03-123).
|  | Summary: The Commission will consider a Report and Order, Order on Reconsideration, and Further Notice of Proposed Rulemaking addressing numerous issues concerning the provisions, regulations, and compensation of telecommunications relay service (TRS) for persons with hearing and speech disabilities.
6 | Wireline Competition | Title: Review of the Section 251 Unbundling Obligations for Incumbent Local Exchange Carriers (CC Docket No. 01-338); Implementation of the Local Competition Provisions of the Telecommunications Act of 1996 (CC Docket No. 96-98); and Deployment of Wireline Services Offering Advanced Telecommunications Capability (CC Docket No. 98-147).
|  | Summary: The Commission will consider an Order on Reconsideration concerning requests from BellSouth and Sure West to reconsider and/or clarify unbundling obligations relating to multiple dwelling units and the network modification rules.

Additional information concerning this meeting may be obtained from Audrey Spivack or David Fiske, Office of Media Relations, (202) 418-0500; TTY 1-888-835-5322.

Audio/Video coverage of the meeting will be broadcast live over the Internet from the FCC's Audio/Video Events Web Page at http://www.fcc.gov/realaudio.

For a fee this meeting can be viewed live over George Mason University's Capitol Connection. The Capitol Connection also will carry the meeting live via the Internet. To purchase these services call (703) 993-3100 or go to www.capitolconnection.gmu.edu. Audio and video tapes of this meeting can be purchased from CACI Productions, 341 Victory Drive, Herndon, VA 20170, (703) 834-1470, Ext. 19; Fax (703) 834-0111.

Copies of materials adopted at this meeting can be purchased from the FCC's duplicating contractor, Best Copy and Printing, Inc. (202) 488-5300; Fax (202) 488-5563; TTY (202) 488-5562. These copies are available in paper format and alternative media, including large print/type; digital disk; and audio tape. Best Copy and Printing, Inc. may be reached by e-mail at FCC@BCPIWEB.COM.

Federal Communications Commission
Marlene H. Dortch,
Secretary.

[FR Doc. 04-13209 Filed 6-7-04; 3:35 pm]

BILLING CODE 6712-01-P